DEPARTMENT OF COMMERCE

Foreign-Trade Zones Board

[B-79-2014]

Authorization of Export Production Activity, Foreign-Trade Zone 21, Crescent Dairy and Beverages (Milk-Based Infant Formula and Fluid Milk Beverages), Walterboro, South Carolina

On November 3, 2014, the South Carolina State Ports Authority, grantee of FTZ 21, submitted a notification of proposed export production activity to the Foreign-Trade Zones (FTZ) Board on behalf of Crescent Dairy and Beverages, within FTZ 21, in Walterboro, South Carolina.

The notification was processed in accordance with the regulations of the FTZ Board (15 CFR part 400), including notice in the Federal Register inviting public comment (79 FR 66353, 11-7-2014). The FTZ Board has determined that no further review of the activity is warranted at this time. The production activity described in the notification is authorized, subject to the FTZ Act and the FTZ Board's regulations, including section 400.14, and further subject to a restriction requiring that all foreign-status whole milk powder, nonfat dry milk, and milk protein concentrate powder admitted to FTZ 21 for the Crescent Dairy and Beverages activity must be re-exported.

Dated: March 4, 2015.
Andrew McGilvray,
Executive Secretary.

[FR Doc. 2015-05559 Filed 3-10-15; 8:45 am]

BILLING CODE 3510-DS-P